DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Medical Expenditure Panel Survey (MEPS) COVID-19 Changes.” This proposed information collection was previously published in the Federal Register on July 11, 2022 and allowed 60 days for public comment. AHRQ received one comment from The Bureau of Economic Analysis (BEA) in strong support of the questions for this proposed data collection. The purpose of this notice is to allow an additional 30 days for public comment.

DATES: Comments on this notice must be received by November 4, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Doris Lefkowitz, AHRQ Reports Clearance Officer, (301) 427-1477, or by email at doris.lefkowitz@AHRQ.hhs.gov.

SUPPLEMENTARY INFORMATION:

Proposed Project

“Medical Expenditure Panel Survey (MEPS) COVID-19 Changes.”

The Medical Expenditure Panel Survey (MEPS) consists of the following three components and has been conducted annually since 1996:

• Household Component (MEPS-HC): A sample of households participating in the National Health Interview Survey (NHIS) in the prior calendar year are interviewed 5 times over a 2 and one-half (2.5) year period. These 5 interviews yield 2 years of information on use of, and expenditures for, health care, sources of payment for that health care, insurance status, employment, health status and health care quality.

• Medical Provider Component (MEPS-MPC): The MEPS-MPC collects information from medical and financial records maintained by hospitals, physicians, pharmacies and home health agencies named as sources of care by household respondents.

• Insurance Component (MEPS-IC): The MEPS-IC collects information on establishment characteristics, insurance offerings and premiums from employers. The MEPS-IC is conducted by the Census Bureau for AHRQ and is cleared separately.

This request is for the MEPS-HC only. The OMB Control Number for the MEPS-HC and MEPS-MPC is 0935-0118, which was last approved by OMB on November 18, 2020, and will expire on November 30, 2023.

The purpose of this request is to update questions related to COVID-19 in MEPS. New round 1 questions on COVID-19 capture information on whether household members have ever had COVID-19 and when they most recently had COVID-19. Follow-up questions in later rounds determine if household members have had COVID-19 in the interview reference period.

This study is being conducted by AHRQ through its contractors, Westat and RTI International, pursuant to AHRQ's statutory authority to conduct and support research on healthcare and on systems for the delivery of such care, including activities with respect to the cost and use of health care services and with respect to health statistics and surveys. 42 U.S.C. 299a(a)(3) and (8); 42 U.S.C. 299b-2.

Method of Collection

The questions will be asked of all MEPS sample members with a single household respondent reporting for the household. The first two questions serve as gate questions and only respondents who report having a COVID-19 diagnosis in the relevant time period will receive follow-up questions about the timing of their most recent infection. These questions will be administered in the existing Priority Conditions Enumeration section of MEPS, which includes a similar series of questions about whether household members have ever been diagnosed with certain medical conditions.

Historically, MEPS has been conducted using Computer Assisted Personal Interviewing (CAPI) where field interviews conduct interviews with household respondents in person. However, MEPS is currently being conducted via multiple modes, including face-to-face, phone, and virtual interviewing, due to the ongoing COVID-19 pandemic.

The information collected on COVID-19 diagnoses will undergo editing and be reviewed for data quality, including consistency with publicly available sources of data on COVID-19 infections. Additionally, the resulting variables will be included on the annual MEPS full-year consolidated public use data files after being assessed for any potential disclosure concerns. The new CAPI questions collecting information about COVID-19 will be folded into the regular processing stream of MEPS data to produce estimates of health care utilization and expenditures. The information collected on COVID-19 diagnoses will be used to compare healthcare utilization and expenditures between those who have had confirmed COVID-19 and those who have not. Additionally, the information collected on the timing of recent infections can be used to either include or exclude recent infections from calendar year or round-specific estimates of healthcare utilization and expenditures. This allows researchers to examine both shorter-term and longer-term impacts of a COVID-19 diagnosis on healthcare utilization and expenditures.

Estimated Annual Respondent Burden

Exhibit 1 shows the estimated annualized burden hours for respondents' time to participate in this research. The addition of several questions related to COVID-19 adds minimal burden in hours and costs to the core CAPI interview, estimated to add 1 minute per interview and a total of 222 burden hours.

Exhibit 2 shows the estimated annualized cost burden associated with respondents' time to participate in this research. The total cost burden is estimated to be $6,218 annually.

Exhibit 1—Estimated Annualized Burden Hours
Activity | Number of respondents | Number of responses per respondent | Hours per response | Total burden hours
COVID-19 questions included in the MEPS questionnaire | 13,338 * | 1 | 1/60 | 222
* While the expected number of responding units for the annual estimates is 12,804, it is necessary to adjust for survey attrition of initial respondents by a factor of 0.96 (13.338=12/804/0.96).

Exhibit 2—Estimated Annualized Cost Burden
Activity | Number of respondents | Total burden hours | Average hourly wage rate * | Total cost burden
COVID-19 questions included in the MEPS questionnaire | 13,338 | 222 | $28.01 | $6,218
* Based upon mean hourly wage, “May 2021 National Occupational Employment and Wage Estimates United States,” U.S. Department of Labor, Bureau of Labor Statistics, retrieved at https://www.bls.gov/oes/current/oes_nat.htm#00-0000.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: September 29, 2022.
Marquita Cullom,
Associate Director.

[FR Doc. 2022-21624 Filed 10-4-22; 8:45 am]

BILLING CODE 4160-90-P